DEPARTMENT OF AGRICULTURE

Food and Nutrition Service

Agency Information Collection Activities: Proposed Collection; Comment Request—Food Stamp Application, Form FNS-252 and a New On-Line Application for Stores, Form FNS-252-E

AGENCY: Food and Nutrition Service, USDA.

ACTION: Notice.

SUMMARY: In accordance with the Paperwork Reduction Act of 1995, this notice invites the general public and other public agencies to comment on proposed information collections.

DATES: Written comments must be received on or before March 3, 2008.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and, (d) ways to minimize the burden of the collection of information on those who are to respond, including use of appropriate automated, electronic, mechanical, or other technological collection techniques or other forms of information technology.

Comments may be sent to Andrea Gold, Chief, Retailer Management Branch, Benefit Redemption Division, Food and Nutrition Service, U. S. Department of Agriculture, 3101 Park Center Drive, Alexandria, VA 22302. Comments may also be submitted via fax to the attention of Andrea Gold at (703) 305-1863 or via e-mail to BRDHQ-WEB@fns.usda.gov.

All written comments will be open for public inspection at the office of the Food and Nutrition Service during regular business hours (8:30 a.m. to 5 p.m., Monday through Friday) at 3101 Park Center Drive, Alexandria, Virginia 22302, Room 404.

All responses to this notice will be summarized and included in the request for OMB approval. All comments will be a matter of public record.

FOR FURTHER INFORMATION CONTACT: The public can download the Form FNS-252 from the FNS Web site at: http://www.fns.usda.gov/fsp/retailers.

Requests for additional information or copies of the information collection should be directed to Andrea Gold at (703) 305-2456.

SUPPLEMENTARY INFORMATION:

Title: Food Stamp Program —Store Applications.

OMB Number: 0584-0008.

Form Number: FNS-252, 252-E, 252-2, and 252-C.

Expiration Date: March 31, 2009.

Type of Request: Revision of a currently approved collection of information.

Abstract: Section 9 of the Food Stamp Act of 1977, as amended, (the Act) (7 U.S.C. 2018), requires retail food stores to submit applications to the Food and Nutrition Service (FNS) for approval prior to participating in the Food Stamp Program (FSP). Currently, retailers who want to apply for authorization to participate in the FSP must complete Form FNS-252 (a paper application) manually. Once completed, applicant retailers must mail/deliver the application to the appropriate FNS Field Office, along with other required documents, for processing. A very small percentage of entities (1%) fax their applications. FNS field offices review applications to ensure that the firm is eligible. The firm is then authorized to accept FSP benefits, or denied. Field office staff manually enters the store application data into the nationwide Store Tracking and Redemption System (STARS) database using a series of on-line screens.

FNS is committed to complying with the E-Government Act of 2002, which requires that, when practicable, federal agencies use electronic forms, electronic filing, and electronic signature to conduct official business. Current technological opportunities allow us to improve information collection in accordance with these statutes. FNS is developing an on-line application, Form FNS-252-E, as an electronic alternative for retailers who wish to complete and submit an application via the Internet from the FNS Web site.

FNS regional and field office staff have suggested ways the data collection on the current Form FNS-252 could be improved when designing the new on-line application. As a result, FNS will revise the current Form FNS-252. The purpose of the revision to the currently approved collection for the Food Stamp Program Application for Stores, Form FNS-252, is to continue the authority for the established application form and to update the number of collection hours. Efforts are being made to streamline the information collected on the application and make it easier to understand. Questions may be re-phrased or combined in order to provide clearer language. Those questions that no longer have any relevance to the authorization process will be deleted. We will include detailed instructions and provide on-line help, where appropriate. The application form will be developed in a customer and computer friendly format.

FNS also intends to amend the information contained on pages 6 and 7 of the current Form FNS-252. These changes are based on recommendations from FNS” legal counsel to reduce redundant, ambiguous and technical language, and to provide clearer language describing our training requirements and the penalties for violating Program rules. Due to the importance of the information contained in this section, and to ensure that all our retailer applications provide the same information, FNS is also seeking approval to revise all forms associated with OMB No. 0584-0008, which are the Meal Service application, Form FNS-252-2, and the supplemental to the Retailer Application, Form FNS-252-C.

We are soliciting public comments on the content, format, and design of the revised Form FNS-252 and the new on-line Form FNS-252-E.

We do not know how many retailers will avail themselves of the on-line application; however, we estimate that, initially, approximately 40 percent of all retailers will use the on-line Form FNS-252-E. We are planning to reach out to retailers and industry representatives to promote this on-line alternative. As noted above, we will evaluate the revised Form FNS-252 and the new on-line application, Form FNS-252-E, on the appropriateness and clarity of the form's content, format, and design. Before making final changes to these forms, we will consider feedback from the public. The burden associated with the Form FNS-252 and the on-line Form FNS-252-E is determined from the number of all newly authorized stores obtained from the STARS Database. We used the number of newly authorized retailers (21,801) from FY 2006 as the base number for current FY 2007 estimates. We further estimate that 40 percent (8,720) of the 21,801 applications will be submitted using the on-line Form FNS-252-E and 60 percent (13,081) will be submitted using Form FNS-252 (paper application). In our last submission to OMB, we estimated that it takes a retailer, on average, 19.9 minutes to complete Form FNS-252. For this submission to OMB, as a result of anticipated improvements, we estimate that it will take retailers, on average, 18.9 minutes to complete either application form (Form FNS-252-E or Form FNS-252). We estimate the annual burden for the new on-line Form FNS-252-E to be 2,747 hours [8,720 (21,801 affected retailers × 40% new authorizations) × .315 (18.9 minutes)]. We further estimate the annual burden for the revised Form FNS-252 to be 4,339 hours [13,081 (21,801 affected retailers × 60% new authorizations) × .332 (18.9 minutes)].

Respondents: Retail food stores.

Estimated Number of Respondents: 45,765.

Number of Responses per Respondent: 1.

Estimated Number of Annual Responses: 73,074.

Estimated Time per Response: 0.114 or 7 minutes (rounded from 6 minutes and 50 seconds).

Estimated Total Annual Burden on Respondents: 8,309.

Dated: December 19, 2007.
Roberto Salazar,
Administrator, Food and Nutrition Service.

BILLING CODE 3410-30-P

[FR Doc. 07-6255 Filed 12-31-07; 8:45 am]

BILLING CODE 3410-30-C